DELAWARE RIVER BASIN COMMISSION

Notice of Commission Meeting and Public Hearing

Notice is hereby given that the Delaware River Basin Commission will hold an informal conference followed by a public hearing on Wednesday, December 3. The hearing will be part of the Commission's regular business meeting. Both the conference session and business meeting are open to the public and will be held at the Commission's offices at 25 State Police Drive, West Trenton, New Jersey.

The conference among the commissioners and staff will begin at 9:30 a.m. Topics of discussion will include: An update on development of the Water Resources Plan for the Delaware River Basin; a report on activities related to the Tri-State Planning Initiative; an update on Water Quality Advisory Committee (WQAC) activities relating to revision of the Commission's water quality standards and the schedule for their adoption, and a revised schedule for adoption of new toxics criteria; a discussion of unresolved issues raised by the WQAC relating to (1) interim protection for waters under study by the Commission for purposes of determining their eligibility to be designated as Special Protection Waters, and (2) basin-wide water quality criteria and their points of application; an update on activities of the Monitoring Advisory Committee; an update on the issuance of the TMDLs for PCBs in the Delaware Estuary, including a proposed resolution to require additional point source monitoring; and an update on activities of the TMDL Implementation Advisory Committee (IAC).

The subjects of the public hearing to be held during the 1:30 p.m. business meeting include the dockets listed below:

1. Baldwin Hardware Corporation D-87-32 RENEWAL 2. A ground water withdrawal renewal project to continue withdrawal of up to 15.13 mg/30 days to supply the applicant's manufacturing facility and ongoing ground water decontamination program from existing Wells Nos. PS-1, PS-2, PS-3, PW-4, and PW-5 in the Schuylkill River watershed. No increase of water withdrawal is proposed. Treated effluent will continue to be discharged to the Schuylkill River. The project is located in City of Reading, Berks County, Pennsylvania.

2. Township of Pemberton D-92-56 CP RENEWAL. A ground water withdrawal renewal project to continue withdrawal of 38.75 mg/30 days to supply the applicant's public water distribution system from existing Wells Nos. 4, 6, 7, 8A, and 11 in the Rancocas Creek Watershed. The project is located in Pemberton Township, Burlington County, New Jersey.

3. Borough of Hopatcong D-92-85 CP RENEWAL. A ground water withdrawal renewal project to continue withdrawal of 18.91 mg/30 days to supply the applicant's water distribution system from existing Wells Nos. 1, 2, 3, 3A, 4, 5, 8, 12, Squire, River Styx, and Mariners in the Musconetcong River Watershed. The project is located in Hopatcong Borough, Sussex County, New Jersey.

4. Sparta Township Water Utility D-98-1 CP. A ground water withdrawal project to supply up to 46.11 mg/30 days of water to the applicant's distribution system from new Wells Buttonwood 1 and 2, Sussex Mills 1 and 2, and Germany Flats A and B, and also from ten existing wells, all located within the Delaware River Basin; to approve the exportation of up to 22.13 mg/30 days of water from the Germany Flats Wells A and B from the Delaware River Basin; and to increase the existing withdrawal limit of 18.84 mg/30 days from all wells in the Delaware River Basin to 46.11 mg/30 days. The project is located in Sparta Township, Sussex County, New Jersey.

5. Nestlé Waters North America, Inc. D-98-27 RENEWAL. A spring water renewal project to continue withdrawal of 9.0 mg/30 days to supply the applicant's bottled water operations from Hoffman Springs Nos. 1, 2, and 3 in the Ontelaunee Creek Watershed. The project is located in Lynn Township, Lehigh County, Pennsylvania.

6. Consumers New Jersey Water Company D-2000-36 CP. A ground water withdrawal project to supply up to 60.3 mg/30 days of water to the applicant's public water distribution system from new Well No. 14 in the Lower Potomac-Raritan-Magothy Aquifer, and to increase the existing withdrawal limit from all wells from 140 mg/30 days to 200.3 mg/30 days. The project is located in Hamilton Township, Mercer County, New Jersey.

In addition to the public hearing items, the Commission will address the following at its 1:30 p.m. business meeting: Minutes of the October 15, 2003 business meeting; announcements; a report on Basin hydrologic conditions; a report by the executive director; a report by the Commission's general counsel; a resolution extending Docket D-69-210 CP (Final) (Revision 11), the “Exelon Mine Water Demonstration Project,” for one year to continue the mine pool withdrawal and stream flow augmentation demonstration project and to modify project operations; a resolution to extend the credit granted PPL on November 25, 2002 to satisfy its consumptive use compensation requirement; a resolution to require additional point source monitoring for PCBs to meet data needs for the Stage 2 TMDLs; and a resolution extending the term of the Watershed Advisory Council.

Draft dockets scheduled for public hearing on December 3, 2003 are posted on the Commission's Web site, http://www.drbc.net, where they can be accessed through the Notice of Commission Meeting and Public Hearing. Additional documents relating to the dockets and other items may be examined at the Commission's offices. Please contact Robert Tudor at 609-883-9500 ext. 208 with any docket-related questions.

Persons wishing to testify at this hearing are requested to register in advance with the Commission secretary at 609-883-9500 ext. 203. Individuals in need of an accommodation as provided for in the Americans with Disabilities Act who wish to attend the hearing should contact the Commission secretary directly at 609-883-9500 ext. 203 or through the Telecommunications Relay Services (TRS) at 711, to discuss how the Commission may accommodate your needs.

Dated: November 17, 2003.
Pamela M. Bush, Esquire,
Commission Secretary.

[FR Doc. 03-29096 Filed 11-20-03; 8:45 am]

BILLING CODE 6360-01-P